DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Form Number, and OMB Number: Request for Approval for Qualification Training and Approval of Contractor Flight Crewmember, DD Forms 2627 and 2628; OMB Number 0704-0347.

Type of Request: Reinstatement.

Number of Respondents: 42.

Responses Per Respondent: 1.9.

Annual Responses: 81.

Average Burden Per Response: 5 minutes.

Annual Burden Hours: 7.

Needs and Uses: The requirement to have government approval of contract flight crewmembers is in Defense Logistics Agency Manual (DLAM) 8210.1, Contractor's Ground and Flight Operations, Vol I, Chapter 6. The contractor provides a personal history and requests the government approve training in a particular type government aircraft (DD Form 2627). The contractor certifies the crewmember has passed a flight evaluation and, with the DD form 2628, requests approval of the personnel to operate and fly government aircraft. Without the approvals, the contractor cannot use their personal as requested.

Affected Public: Individuals or households; business or other for-profit; not-for-profit institutions.

Frequency: On occasion.

Respondent's Obligation: Required to obtain or retain benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: May 2, 2000.
Patricia L. Toppings,
Alternate OSD Federal Register Liaison Officer, Department of Defense.

[FR Doc. 00-11393 Filed 5-5-00; 8:45 am]

BILLING CODE 5001-10-U